DEPARTMENT OF LABOR

Employment and Training Administration

[TA-W-64,869]

Alexvale Furniture/Kincaid Furniture Company, Taylorsville, NC; Notice of Termination of Investigation

Pursuant to Section 221 of the Trade Act of 1974, as amended, an investigation was initiated on January 13, 2009, in response to a petition filed by a company official on behalf of workers of Alexvale Furniture/Kincaid Furniture Company, Taylorsville, North Carolina.

The petitioning group of workers is covered by an active certification (TA-W-63,744) which expires on September 5, 2010. Consequently, further investigation in this case would serve no purpose, and the investigation has been terminated.

Signed at Washington, DC this 9th day of February 2009.
Linda G. Poole,
Certifying Officer, Division of Trade Adjustment Assistance.

[FR Doc. E9-3734 Filed 2-20-09; 8:45 am]

BILLING CODE 4510-FN-P